Determination No. 2017-08 of June 13, 2017

Presidential Determination Pursuant to Section 4533(a)(5) of the Defense Production Act of 1950

Memorandum for the Secretary of Defense

By the authority vested in me as President by the Constitution and the laws of the United States, including section 4533(a)(5) of the Defense Production Act of 1950 (the “Act”) (50 U.S.C. 4533(a)(5)), I hereby determine, pursuant to section 4533(a)(5) of the Act, that critical technology items affecting aerospace structures and fibers, radiation-hardened microelectronics, radiation test and qualification facilities, and satellite components and assemblies are critical to national defense.

Without Presidential action under this Act, the United States space industrial base cannot reasonably be expected to adequately provide those critical technology items in a timely manner. Further, purchases, purchase commitments, or other action pursuant to section 4533 of the Act are the most cost effective, expedient, and practical alternative method for meeting the needs for those critical technology items.

You are authorized and directed to publish this memorandum in the Federal Register.

THE WHITE HOUSE,

Washington, June 13, 2017

[FR Doc. 2017-12621

Filed 6-14-17; 11:15 am]

Billing code 5001-06-P